ENVIRONMENTAL PROTECTION AGENCY

[FRL-8774-2]

Approval of a Petition for Exemption From Hazardous Waste Disposal Injection Restrictions to ArcelorMittal Hennepin, Inc., Hennepin, IL

AGENCY: Environmental Protection Agency.

ACTION: Notice of final decision on petition.

SUMMARY: Notice is hereby given by the United States Environmental Protection Agency (EPA) that an exemption to the land disposal restrictions under the 1984 Hazardous and Solid Waste Amendments (HSWA) to the Resource Conservation and Recovery Act (RCRA) has been granted to ArcelorMittal Hennepin, Inc. (Hennepin Works) of Hennepin, Illinois, for one Class I injection well located in Hennepin, Illinois. As required by 40 CFR part 148, Hennepin Works has demonstrated, to a reasonable degree of certainty, that there will be no migration of hazardous constituents out of the injection zone or into an underground source of drinking water (USDW) for at least 10,000 years. This final decision allows the continued underground injection by Hennepin Works of a specific restricted waste, Waste Pickle Liquor (code K062 under 40 CFR part 261), into one Class I hazardous waste injection well specifically identified as Waste Pickle Liquor No. 1 (WPL-1), at the Hennepin facility. This decision constitutes a final EPA action for which there is no Administrative Appeal.

DATES: This action is effective as of March 3, 2009.

FOR FURTHER INFORMATION CONTACT: Leslie Patterson, Lead Petition Reviewer, EPA, Region V, telephone (312) 886-4904. Copies of the petition and all pertinent information relating thereto are on file and are part of the Administrative Record. It is recommended that you contact the lead reviewer prior to reviewing the Administrative Record.

SUPPLEMENTARY INFORMATION:

Background

Hennepin Works submitted a petition for renewal of an existing exemption from the land disposal restrictions of hazardous waste on March 6, 2007. EPA personnel reviewed all data pertaining to the petition, including, but not limited to, well construction, well operations, regional and local geology, seismic activity, penetrations of the confining zone, and computational models of the injection zone. EPA has determined that the geologic setting at the site as well as the construction and operation of the well are adequate to prevent fluid migration out of the injection zone within 10,000 years, as required under 40 CFR part 148. The injection zone at this site is the Mt. Simon Sandstone and the lower Eau Claire Formation, at depths between 2,902 feet and 4,800 feet below ground level. The confining zone is the upper Eau Claire formation (Proviso Member) at depths between 2,705 feet and 2,902 feet below ground level. The confining zone is separated from the lowermost underground source of drinking water (at a depth of 2510 feet below ground level) by a sequence of permeable and less permeable sedimentary rocks, which provide additional protection from fluid migration into drinking water sources.

EPA issued a draft decision, which described the reasons for granting this exemption in more detail, a fact sheet, which summarized these reasons, and a public notice on November 24, 2008, pursuant to 40 CFR 124.10. The public comment period expired on December 26, 2008. EPA received no comments on the proposed exemption granted to Hennepin Works. A final exemption is therefore granted as proposed.

Conditions

This exemption is subject to the following conditions. Non-compliance with any of these conditions is grounds for termination of the exemption:

(1) All regulatory requirements in 40 CFR 148.23 and 148.24 are incorporated by reference;

(2) The exemption applies to the existing injection well, WPL-1, located at the Hennepin Works facility at 10726 Steel Drive, Hennepin, Illinois;

(3) Injection is limited to that part of the Mt. Simon Sandstone at depths between 3,109 and 4,800 feet;

(4) Only wastes denoted by the RCRA waste code K062 may be injected;

(5) The chemical properties of the injectate that defined the edge of the plume in the demonstration are limited according to the table below:

Chemical constituent or property | Limitation at the well head
Chromium | Maximum concentration is 1200 mg/L.
pH | Minimum pH is zero.

(6) The monthly average of the specific gravity of the injected waste stream must fall within the range of 1.00 to 1.27;

(7) The volume of wastes injected in any month through the well must not exceed 6,705,990 gallons;

(8) This exemption is approved for the 22-year modeled injection period, which ends on December 31, 2028. Hennepin Works may petition EPA for a reissuance of the exemption beyond that date, provided that a new and complete petition and no-migration demonstration is received at EPA, Region 5, by July 1, 2028;

(9) Hennepin Works shall quarterly submit to EPA a report containing a fluid analysis of the injected waste which shall indicate the chemical and physical properties upon which the no-migration petition was based, including the physical and chemical properties listed in Conditions 5 and 6 of this exemption approval;

(10) Hennepin Works shall annually submit to EPA a report containing the results of a bottom hole pressure survey (fall-off test) performed on WPL-1. The survey shall be performed after shutting in the well for a period of time sufficient to allow the pressure in the injection interval to reach equilibrium, in accordance with 40 CFR 146.68(e)(1). The annual report shall include a comparison of reservoir parameters determined from the fall-off test with parameters used in the approved no-migration petition;

(11) The petitioner shall fully comply with all requirements set forth in Underground Injection Control Permit UIC-004-W1-JL issued by the Illinois Environmental Protection Agency; and

(12) Whenever EPA determines that the basis for approval of a petition may no longer be valid, EPA may terminate this exemption and will require a new demonstration in accordance with 40 CFR 148.20.

Dated: January 21, 2009.
Anthony C. Carrollo,
Acting Director, Water Division, Region 5.

[FR Doc. E9-4452 Filed 3-2-09; 8:45 am]

BILLING CODE 6560-50-P